DEPARTMENT OF THE INTERIOR

Bureau of Land Management

[WY-100-07-1610-DP]

Supplement to Notice of Availability (NOA) of the Draft Resource Management Plan and Draft Environmental Impact Statement for the Pinedale Field Office To List Proposed Areas of Critical Environmental Concern and Specific Associated Resource Use Limitations for Public Lands in Sublette and Lincoln Counties, WY

AGENCY: Bureau of Land Management, Interior.

ACTION: Notice of availability.

SUMMARY: A notice of availability for the Draft Resource Management Plan (RMP) and Environmental Impact Statement (EIS) for the Pinedale Field Office planning area in Sublette and Lincoln Counties, Wyoming was published in the Federal Register, volume 72, number 32, on February 16, 2007. This supplements that Notice with information on existing and potential Areas of Critical Environmental Concern (ACECs) considered within the Draft RMP and EIS and also provides a 60-day comment period on the proposed ACECs as required by 43 CFR 1610.7-2.

DATES: The comment period will commence with the publication of this notice in the Federal Register and end 60 days after its publication.

ADDRESSES: Comments on ACECs and resource use limitations (found on pages 2-106-2-110 and 2-153-2-155) must be received within 60-days of the date of publication of this notice. Written comments must be submitted as follows:

1. Comments may be provided via the Pinedale RMP Revision Web site at: http://www.blm.gov/rmp/wy/pinedale. The Web site is designed to allow commenter to submit comments electronically by resource subject directly onto a comment form posted on the Web site. Comments may be uploaded in an electronic file to the above Web site. Whenever possible, please include reference to either the page or section in the Draft RMP/EIS to which the ACEC-related comment applies. To facilitate analysis of comments and information submitted, the BLM encourages commenters to submit comments in an electronic format though the Web site.

2. Written comments may be mailed or delivered to the BLM at: Pinedale RMP EIS, BLM Pinedale Field Office, 1625 W. Pine St., P.O. Box 768, Pinedale, Wyoming 82941. All postal mail must be addressed to the post office box.

FOR FURTHER INFORMATION CONTACT: Kellie Roadifer, Pinedale RMP Team Leader, BLM Pinedale Field Office, 1625 W. Pine Street, Pinedale, Wyoming 82941; or by telephone at 307-367-5309.

SUPPLEMENTARY INFORMATION: The Draft RMP/EIS addresses four alternatives and provides proposed management decisions and impact analysis of the alternatives. The number and acreages of ACECs that would be designated vary by alternative. The four alternatives include:

1. Alternative 1 (No Action Alternative): Continues the existing management strategy;

2. Alternative 2: Maximizes the production of resource commodities while providing an adequate level of environmental protection for wildlife habitat and other resource values;

3. Alternative 3: Provides a high level of environmental protection for wildlife habitat and other resource values while allowing the production of resource commodities; and

4. Alternative 4 (BLM Preferred Alternative): Optimizes the mix of resource outputs, including production of resource commodities and wildlife habitat, while providing an appropriate level of environmental protection for all resources.

There are two ACECs in the existing Pinedale Field Office land use plan: Rock Creek ACEC (5,300 acres) and Beaver Creek ACEC (3,590 acres). There are six potential new ACECs proposed in the Draft RMP/EIS. The ACECs are:

• Trapper's Point ACEC (550 acres [Alternative 2], 4,000 acres [Alternative 4], or 9,540 acres [Alternative 3]): Values of concern are big game migration corridors, cultural and historic properties, and livestock trailing. Within this ACEC, fence construction and surface disturbing activities would be prohibited with the exception of activities designed to increase big game migration viability. The ACEC would be unavailable for oil and gas leasing. Off-road vehicle use would be restricted to designated roads and trails and subject to a seasonal closure from November 15 through April 30 annually.

• New Fork Potholes ACEC (1,800 acres [Alternatives 3 and 4]): Values of concern are waterfowl, trumpeter swan, and riparian habitats. With the exception of those that would benefit wildlife habitat, surface disturbing activities would be prohibited. The ACEC would be unavailable for oil and gas leasing. Off-road vehicle use would be restricted to designated roads and trails.

• Upper Green River ACEC (12,270 acres [Alternative 3]): Values of concern are big game migration routes and migration bottlenecks, and high scenic and recreational values. The ACEC would be unavailable for oil and gas leasing. Off-road vehicle use would be restricted to designated roads and trails, and no net increase in miles of roads would be allowed.

• White-Tailed Prairie Dog (WTPD) ACEC (no acreage estimate available, [Alternative 3]): The WTPD ACEC would not have a specific area but would involve a number of townships where WTPD habitat is found in future surveys. The value of concern is habitat for the WTPD. Surveys for WTPD presence would be required prior to authorizing any activities. Anti-raptor perching devices would be required on any above-ground facilities located within ¼ mile of WTPD towns greater than 12.5 acres in size. Surface-disturbing activities would be prohibited in WTPD towns greater than 12.5 acres in size. Off-road vehicle use would be limited to designated roads and trails. Poisoning of WTPD would be prohibited except in cases of health and safety emergencies.

• Ross Butte ACEC (35,670 acres [Alternative 3]): Values of concern are significant cultural resources, archeological landscapes and Native American sacred sites, a unique community of Wyoming sensitive plant species, high-quality paleontological resources, open space and dispersed recreation opportunities, and unique geology and unstable soils. The ACEC would be unavailable for oil and gas leasing and closed to the placement of new communication sites. Off-road vehicle use would be limited to designated roads and trails. Surface occupancy and disturbance would be prohibited on erosive soils, sensitive plant species habitats, and on slopes greater than 10 percent.

• CCC Ponds ACEC (5,530 acres [Alternative 3]): Values of concern are a wildlife migration bottleneck on a well-defined mule deer migration route and recreational values including a developed, nonmotorized trail system, fishing ponds, and interpretive facilities. The ACEC would be unavailable for oil and gas leasing and would be closed to mineral location and land disposal. Off-highway vehicle use would be limited to designated roads and trails.

Alternative 1 proposes to maintain the status of the two existing ACECs identified in the 1988 Pinedale RMP. Alternative 2 proposes to eliminate the two existing ACECs, and establish a new ACEC at Trapper's Point (550 acres). Alternative 3 proposes to maintain the existing Rock Creek and Beaver Creek ACECs, and establish all of the new ACECs listed above (6).

As a result of public scoping and the alternative development process, Alternative 4 (Preferred Alternative) proposes to maintain the status of the existing Beaver Creek ACEC, maintain but reduce slightly in size the existing Rock Creek ACEC, and establish two new ACECs at Trapper's Point (4,000 acres) and New Fork Potholes.

Please note that public comments and information submitted including names, street addresses, and e-mail addresses of respondents will be available for public review and disclosure at the above address during regular business hours (8 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so. Copies of the Draft RMP/EIS were sent to affected Federal, State, and local government agencies and interested parties when the document first became available. Additional copies have been supplied to interested parties on request. There are a limited number of hard copies available upon request. The document was posted electronically, and is still available for public review on the following Web site: http://www.blm.gov/rmp/wy/pinedale/. Copies of the Draft RMP EIS are also available for public review at the following locations:

• Bureau of Land Management, Wyoming State Office, 5353 Yellowstone Road, Cheyenne, Wyoming 82003.

• Bureau of Land Management, Pinedale Field Office, 1625 W. Pine Street, Pinedale, Wyoming 82941.

Robert A. Bennett,
State Director.

[FR Doc. E8-3251 Filed 2-20-08; 8:45 am]

BILLING CODE 4310-22-P